ENVIRONMENTAL PROTECTION AGENCY

40 CFR Part 258

[FRL-7392-1]

RIN 2050-AE91

Municipal Solid Waste Landfill Location Restrictions for Airport Safety

AGENCY: Environmental Protection Agency (EPA).

ACTION: Withdrawal of direct final rule.

SUMMARY: Because EPA received adverse comment, we are withdrawing the direct final rule for Municipal Solid Waste Landfill Location Restrictions for Airport Safety. We published the direct final rule on July 11, 2002 (67 FR 45915) to amend the location restriction requirements in the criteria for municipal solid waste landfills in order to incorporate new landfill siting requirements enacted in the Wendell H. Ford Aviation Investment and Reform Act for the 21st Century. We stated in that Federal Register document that if we received adverse comment by August 12, 2002, we would publish a timely notice of withdrawal in the Federal Register. We subsequently received adverse comment on that direct final rule. We will address those comments in a subsequent final action based on the parallel proposal also published on July 11, 2002 (67 FR 45948). As stated in the parallel proposal, we will not institute a second comment period on this action. Although EPA is issuing this withdrawal of its direct final rule, the new siting requirements enacted in the Wendell H. Ford Aviation Investment and Reform Act for the 21st Century continue to remain in effect.

DATES: As of October 8, 2002, EPA withdraws the direct final rule published at 67 FR 45915, on July 11, 2002.

FOR FURTHER INFORMATION CONTACT: Mary Moorcones, Office of Solid Waste and Emergency Response, Office of Solid Waste, Municipal and Industrial Solid Waste Division (mail code 5305W), U.S. Environmental Protection Agency Headquarters (EPA HQ), 1200 Pennsylvania Avenue, NW, Washington, DC 20460; telephone: 540-338-1348; e-mail: <moorcones.mary@epamail.epa.gov>.

Dated: October 2, 2002.
Christine Todd Whitman,
Administrator, Environmental Protection Agency.

[FR Doc. 02-25582 Filed 10-7-02; 8:45 am]

BILLING CODE 6560-50-P